ENVIRONMENTAL PROTECTION AGENCY

[FRL OP-OFA-169]

Environmental Impact Statements; Notice of Availability

Responsible Agency: Office of Federal Activities, General Information 202-564-5632 or https://www.epa.gov/nepa.

Weekly receipt of Environmental Impact Statements (EIS)

Filed March 3, 2025 10 a.m. EST Through March 10, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250027, Final, USAF, AZ, 492nd Special Operations Wing Beddown, Review Period Ends: 04/14/2025, Contact: Mr. Nick Post 380-459-0507.

EIS No. 20250028, Draft, UDOT, UT, Kimball Junction, Comment Period Ends: 04/28/2025, Contact: Carissa Watanabe 503-939-3798.

EIS No. 20250029, Final, NMFS, CA, Consideration of Exempted Fishing Permits for Testing Fishing Practices To Target Swordfish and Other Marketable Highly Migratory Species in the United States West Coast Exclusive Economic Zone, Review Period Ends: 04/14/2025, Contact: Amber Rhodes 910-352-7186.

EIS No. 20250030, Draft, TVA, TN, Allen Aeroderivative Combustion Turbine Project, Comment Period Ends: 04/28/2025, Contact: Matthew Higdon 865-632-8051.

Dated: March 10, 2025.
Mark Austin,
Acting Director, NEPA Compliance Division, Office of Federal Activities.

[FR Doc. 2025-04109 Filed 3-13-25; 8:45 am]

BILLING CODE 6560-50-P